COMMISSION ON CIVIL RIGHTS

Notice of Public Meetings of the Pennsylvania Advisory Committee to the U.S. Commission on Civil Rights

AGENCY: U.S. Commission on Civil Rights.

ACTION: Announcement of meetings.

SUMMARY: Notice is hereby given, pursuant to the provisions of the rules and regulations of the U.S. Commission on Civil Rights (Commission) and the Federal Advisory Committee Act that the Pennsylvania Advisory Committee (Committee) to the U.S. Commission on Civil Rights will hold series of web-based panel discussions on Tuesday June 28, 2022 from 11 a.m.-1:00 p.m. Eastern time, and Thursday July 14, 2022 from 11:00 a.m.-1:00 p.m. Eastern time. The purpose of these meetings is for the Committee to hear testimony regarding civil rights and fair housing in the state.

DATES:

• Panel 4: Tuesday June 28, 2022 from 11:00 a.m. -1:00 p.m. Eastern time.

Online Regisration (Audio/Visual): https://bit.ly/3NKOW6l

• Panel 5: Thursday July 14, 2022 from 10:00 a.m.-12:00 p.m. Eastern time.

Online Regisration (Audio/Visual): https://bit.ly/3lOBpym

FOR FURTHER INFORMATION CONTACT: Melissa Wojnaroski, DFO, at mwojnaroski@usccr.gov or (202) 618-4158.

SUPPLEMENTARY INFORMATION: Members of the public may listen to these discussions. Committee meetings are available to the public through the above listed online registration link. Telephone access will be provided upon registration for those who are unavailable to join the meeting online. An open comment period will be provided to allow members of the public to make a statement as time allows. Callers can expect to incur regular charges for calls they initiate over wireless lines, according to their wireless plan. The Commission will not refund any incurred charges. American Sign Language interpretation will be provided. Indivudals with disabilities requiring other accommodations may contact Corrine Sanders at csanders@usccr.gov 10 days prior to the meeting to make their request.

Members of the public are also entitled to submit written comments; the comments must be received in the regional office within 30 days following the meeting. Written comments may be emailed to csanders@usccr.gov. Persons who desire additional information may contact the Regional Programs Unit at (202) 618-4158.

Records generated from this meeting may be inspected and reproduced at the Regional Programs Unit Office, as they become available, both before and after the meeting. Records of the meeting will be available via www.facadatabase.gov under the Commission on Civil Rights, Pennsylvania Advisory Committee link. Persons interested in the work of this Committee are directed to the Commission's website, http://www.usccr.gov, or may contact the Regional Programs Unit at the above email address.

Agenda

Welcome and Roll Call

Panel Discussion: Civil Rights and Fair Housing in Pennsylvania

Public Comment

Adjournment

Dated: May 31, 2022.
David Mussatt,
Supervisory Chief, Regional Programs Unit.

[FR Doc. 2022-11982 Filed 6-2-22; 8:45 am]

BILLING CODE P